ANTITRUST MODERNIZATION COMMISSION

Public Meeting

AGENCY: Antitrust Modernization Commission.

ACTION: Notice of public meeting.

SUMMARY: The Antitrust Modernization Commission will hold a public meeting on July 15, 2004. The purpose of the meeting will be to discuss and adopt the process by which the Commission will identify issues to study in fulfilling its statutory duties. The Executive Director will also report to the Commission on administrative matters.

DATES: July 15, 2004, 3 p.m. until 5 p.m., unless earlier adjourned. All interested members of the public may attend. Registration is not required. There will be a brief period for questions from the public at the conclusion of the meeting.

ADDRESSES: Rayburn House Office Building, Room 2226, located at the corner of Independence Avenue and South Capitol Street, SW., Washington, DC.

FOR FURTHER INFORMATION CONTACT: Andrew J. Heimert, Executive Director & General Counsel, Antitrust Modernization Commission: telephone: (202) 326-2487; e-mail: info@amc.gov. Mr. Heimert is also the Designated Federal Officer (DFO) for the Antitrust Modernization Commission.

SUPPLEMENTARY INFORMATION: The Antitrust Modernization Commission (“AMC” or “Commission”) was established by the Antitrust Modernization Commission Act of 2002. Public Law 107-273, sections 11051-60, 116 Stat. 1758, 1856-59. The duties of the Commission are:

(1) To examine whether the need exists to modernize the antitrust laws and to identify and study related issues;

(2) To solicit views of all parties concerned with the operation of the antitrust laws;

(3) To evaluate the advisability of proposals and current arrangements with respect to any issues so identified; and

(4) To prepare and submit to Congress and the President a report.

Id. section 11053. The Commission's report, which shall be issued no later than three years after the first meeting of the Commission, is to “contain[] a detailed statement of the findings and conclusions of the Commission, together with recommendation for legislative or administrative action the Commission considers to be appropriate.” Id. section 11058.

The AMC has called this meeting pursuant to its authorizing statute and the Federal Advisory Committee Act. Antitrust Modernization Commission Act of 2002, Public Law 107-273, section 11058(f), 116 Stat. 1758, 1857; Federal Advisory Committee Act, 5 U.S.C. App., § 10(a)(2); 41 CFR 102-3.150 (2003).

Dated: June 24, 2004.
By direction of Deborah A. Garza, Chair of the Antitrust Modernization Commission.
Approved by Designated Federal Officer.
Andrew J. Heimert,
Executive Director & General Counsel, Antitrust Modernization Commission.

[FR Doc. 04-14695 Filed 6-28-04; 8:45 am]

BILLING CODE 6820-YM-P